DEPARTMENT OF THE INTERIOR

Bureau of Land Management

[NV-020-5870-EU; N-66278, N-77446, N-66128]

Notice of Realty Action; Competitive Sale of Public Land; Humboldt and Pershing Counties, NV

AGENCY: Bureau of Land Management, Interior.

ACTION: Notice of realty action.

SUMMARY: Three parcels of land, one 1,909.58 acres (Parcel N-66278) and one 1,160 acres (Parcel N-77446) located in northeast Humboldt County, Nevada, and one parcel of land, equaling 798.04 acres (Parcel N-66128) located in southeast Pershing County, Nevada, totaling 3,867.62 acres of Federal public land, have been examined and found suitable for disposal utilizing competitive sale procedures. The authority for the sale is sections 203 and 209 of the Federal Land Policy and Management Act of 1976 (FLPMA) (43 U.S.C. 1701, 1713 and 1719).

DATES: Comments regarding the proposed sale must be received by the Bureau of Land Management (BLM) on or before June 18, 2007. In order to purchase the land, BLM will accept sealed bids from bidders up to July 12, 2007, and accept oral bids at a public auction scheduled July 13, 2007.

ADDRESSES: Comments regarding the proposed sale, as well as sealed bids, must be submitted to BLM, and addressed as follows: Field Manager, BLM, Winnemucca Field Office, 5100 East Winnemucca Blvd., Winnemucca, Nevada 89445. The address for oral bidding registration and the location of the public auction is: Winnemucca Field Office, 5100 East Winnemucca Blvd., Winnemucca, Nevada 89445.

FOR FURTHER INFORMATION CONTACT: Information regarding the competitive sale instructions, procedures, documents, including environmental documents, maps, and materials to submit a bid can be obtained at the public reception desk at the BLM, Winnemucca Field Office from 7:30 a.m. to 4:30 p.m., Monday through Friday (except Federal holidays), or by contacting Bob Edwards, Supervisory Realty Specialist, at the above address, or at (775) 623-1500 or by e-mail at redwards@nv.blm.gov. For general information on BLM's public land sale procedures, refer to the following Web address: http://www.blm.gov/nhp/what/lands/realty/sales.htm.

SUPPLEMENTARY INFORMATION: Parcel N-66278 is located approximately twenty-three miles west of Winnemucca, Nevada, and has physical and legal access via a county-maintained gravel road to the south (N-53607), and dirt roads on the east and west sides.

Mount Diablo Meridian, Nevada

T. 36 N., R. 34 E.,

Sec. 20, all;

Sec. 28, all;

Sec. 32, lots, 1, 2, 3, 4, NE¼, S½.

The area described contains 1,909.58 acres, more or less in Humboldt County.

This parcel of public land, west of Winnemucca, Nevada, is proposed for sale at no less than the appraised fair market value (FMV) of $143,000.00, as determined by the authorized officer after appraisal. An appraisal report has been prepared by a state certified appraiser for the purposes of establishing FMV.

Parcel N-77446 is located approximately 6 miles northeast of Winnemucca, Nevada, and has physical access via various dirt roads to the east of the parcel.

Mount Diablo Meridian, Nevada

T. 37 N., R. 39 E.,

Sec. 26, W½NE¼, SE¼NE¼, W½, SE¼;

Sec. 28, E½, E½NW¼, SW¼NW¼, SW¼.

The area described contains 1,160.00 acres, more or less in Humboldt County.

This parcel of public land, northeast of Winnemucca, Nevada, is proposed for sale at no less than the appraised fair market value (FMV) of $90,000.00, as determined by the authorized officer after appraisal. An appraisal report has been prepared by a state certified appraiser for the purposes of establishing FMV.

Parcel N-66128 is located approximately 44 miles south of Winnemucca, Nevada, in Pershing County and has physical access via various dirt roads to the east of the parcel.

Mount Diablo Meridian, Nevada

T. 27 N., R. 38 E.,

Sec. 2, Lots 3, 4, SW¼NW¼, SW¼SE¼;

Sec. 3, E½SE¼;

Sec. 10, E½NE¼, NE¼SW¼, W½SE¼;

Sec. 11, NE¼SW¼;

Sec. 14, SW¼NW¼, NW¼SW¼;

Sec. 15, S½SE¼;

Sec. 22, NE¼.

The area described contains 798.04 acres, more or less in Pershing County.

This parcel of public land is proposed for sale at no less than the appraised fair market value (FMV) of $52,000.00, as determined by the authorized officer after appraisal. An appraisal report has been prepared by a state certified appraiser for the purposes of establishing FMV.

None of the parcels are required for any Federal purpose and all parcels have been identified for disposal in the Sonoma-Gerlach Management Framework Plan, approved January 15, 1999. The parcels, therefore, meet the disposal qualification of section 205 of the Federal Land Transaction Facilitation Act of July 25, 2000 (43 U.S.C. 2304) (hereinafter FLTFA). The proceeds from the sale of the land will be deposited into the Federal Land Disposal Account for Nevada pursuant to FLTFA.

These lands meet the criteria for sale under 43 CFR 2710.0-3(a)(3), in that disposal (sale) of the parcel is appropriate because their location or other characteristics make it difficult and uneconomic to manage them as part of the public lands. All of these lands are located in relatively isolated areas of rural Nevada. These lands are either isolated parcels surrounded by private lands or are intermingled with private lands thereby making them difficult to manage for any Federal purpose. Parcel N-66278 consists of three sections intermingled with private lands. Parcels N-77446 and N-66128 consist of fragmented parcels that are surrounded by private lands and have no legal access across those private lands. The land contains no other known public values. The subject parcels have not been identified for transfer to the State or any other local government or nonprofit organization. The parcels will be offered through competitive sale procedures pursuant to 43 CFR 2711.3-1.

As stated, both sealed bids and oral bids will be accepted in conducting this sale. Sealed bids must be received by the BLM not later than 4:30 p.m. PDT, July 12, 2007. Sealed bid opening is to begin at 10 a.m. PDT, July 13, 2007. The subject lands proposed for sale will be put up for purchase and sale, at public auction, beginning at 10 a.m. PDT, July 13, 2007. Registration for oral bidding will begin at 8 a.m. PDT, July 13, 2007.

Pursuant to 43 CFR 2711.3-1(c), each sealed bid shall be accompanied by a certified check, postal money order, bank draft or cashier's check made payable to the Bureau of Land Management, for not less than 20 percent of the amount of the sealed bid. The highest qualified sealed bid will become the starting bid at the oral auction, provided it is higher than the approved, appraised FMV. If no sealed bids are received, oral bidding will begin at the FMV, as determined by the authorized officer.

If any sealed bid presented to BLM prior to the auction is not declared the high-bidder, the money will be returned at the auction upon proof of identification. If the bidder does not attend the auction, the money will be returned according to instructions of the bidder.

The highest qualifying bid, whether sealed or oral in excess of the appraised fair market value will be declared the high bid. The apparent high bidder, if an oral bidder, must submit a deposit pursuant to 43 CFR 2711.3-1(d), which is not less than one-fifth (20%) of the apparent high bid, by 2 p.m. PDT, on the day of the sale in the form of cash, personal check, bank draft, cashier's check, money order or any combination thereof, made payable in U.S. dollars to the Bureau of Land Management. Payment must be made at the Winnemucca Field Office, 5100 E. Winnemucca Blvd., Winnemucca, Nevada 89445. This deposit will be forfeited to the BLM if the successful high bidder fails to submit the full bid price to the BLM prior to the expiration of 180 days from the date of sale, as required by 43 CFR 2711.3-1(d).

Other deadlines dates for the receipt of payments, and arranging for certain payments to be made by electronic transfer, are specified below.

The Environmental Assessment (EA), conducted pursuant to the National Environmental Policy Act, was made available for public review prior to publication of this notice of realty action. The comment period for the EA closed on June 5, 2006. Comments received during the comment period for the EA have been considered and incorporated into the EA and Decision Record. The EA, Number NV-020-06-EA-10, Decision Record, Environmental Site Assessment, map, and approved appraisal report covering the proposed sale, are available at the BLM, Winnemucca Field Office, Winnemucca, Nevada.

If the parcels of land are sold, the locatable mineral interests of no known value therein will be sold simultaneously as part of the sale. The unreserved mineral interests have been determined to have no known mineral value pursuant to 43 CFR 2720.2(a). An offer to purchase the parcels at auction will constitute an application for conveyance of the locatable mineral interests. In conjunction with the final payment, the applicant will be required to pay a $50.00 non-refundable filing fee for processing the conveyance of the locatable mineral interests.

Segregation:

Publication of this Notice in the Federal Register segregates the subject lands from all appropriations under the public land laws, including the general mining laws, except sale under the Federal Land Policy and Management Act of 1976. The segregation will terminate upon issuance of the patent, or upon publication in the Federal Register of a termination of the segregation or May 4, 2009 which ever occurs first.

Terms And Conditions Of Sale:

Upon successful completion of the sale, the patent issued would contain the following numbered reservations, covenants, terms and conditions:

1. Oil, gas, and geothermal resources are reserved on the land sold; permittees, licensees, and lessees retain the right to prospect for, mine, and remove the minerals owned by the United States under applicable law and any regulations that the Secretary of the Interior may prescribe, including all necessary access and exit rights.

2. A right-of-way thereon for ditches and canals constructed by authority of the United States, Act of August 30, 1890 (43 U.S.C. 945).

3. A right-of-way authorized under the Act of October 21, 1976, 90 Stat. 2776 (43 U.S.C. 1761) for an access road granted to Humboldt County, its successor or assignees, by right-of-way N-53607 for Parcel N-66278.

4. The parcels are subject to valid existing rights.

5. The purchaser/patentee, by accepting patent, agrees to indemnify, defend, and hold the United States harmless from any costs, damages, claims, causes of action, penalties, fines, liabilities, and judgments of any kind arising from the past, present, or future acts or omissions of the patentee, its employees, agents, contractors, or lessees, or a third part arising out of, or in connection with, the patentee's use and/or occupancy of the patented real property resulting in: (1) Violations of Federal, state, and local laws and regulations that are now, or in the future become, applicable to the real property; (2) judgments, claims, or demands of any kind assessed against the United States; (3) costs, expenses, or damages of any kind incurred by the United States; (4) releases or threatened releases of solid or hazardous waste(s) and/or hazardous substances(s), as defined by Federal or state environmental laws, off, on, into, or under land, property, and other interests of the United States; (5) other activities by which solids or hazardous substances or wastes, as defined by Federal and state environmental laws are generated, released, stored, used, or otherwise disposed of on the patented real property, and any cleanup response, remedial action, or other actions related in any manner to said solid or hazardous substances or waster; or (6) natural resource damages as defined by Federal and state law. This covenant shall be construed as running with the patented real property and may be enforced by the United States in a court of competent jurisdiction.

6. Pursuant to the requirements established by section 120(h) of the Comprehensive Environmental Response, Compensation and Liability Act (CERCLA), (42 U.S.C. 9620(h)), as amended by the Superfund Amendments and Reauthorization Act of 1988, (100 Stat. 1670), notice is hereby given that the above-described lands have been examined and no evidence was found to indicate that any hazardous substances has been stored for one year or more, nor had any hazardous substances been disposed of or released on the subject property.

No warranty of any kind, expressed or implied, is given by the United States as to the title, physical condition or potential uses of the parcels of land proposed for sale, and the conveyance of any such parcel will not be on a contingency basis. It is the buyer's responsibility to be aware of all applicable federal, state, or local government laws, regulations, or policies that may affect the subject lands or their future uses. It is also the buyer's responsibility to be aware of existing or prospective uses of nearby properties. Any land lacking access from a public road and highway will be conveyed as such, and future access acquisition will be the responsibility of the buyer.

The sale will be subject to FLPMA, and BLM land sale and mineral conveyance regulations at 43 CFR Parts 2710 and 2720. Maps, the approved appraisal reports, the environmental assessment (EA) and other supporting documentation are available at the Winnemucca Field Office, Winnemucca, Nevada. Information is also available on line at http://www.nv.blm.gov.

The successful bidder must submit the remainder of the full bid price, whether sealed or oral, within 180 calendar days of the competitive sale date in the form of a certified check, money order, bank draft, or cashier's check made payable in U.S. dollars to the Bureau of Land Management. Personal checks will not be accepted. Arrangements for Electronic Fund Transfer (EFT) to BLM for the balance which is due on or before January 9, 2008, must be made a minimum of 2 weeks prior to the date you wish to make payment. Failure to pay the full bid price within the 180 days will disqualify the apparent high bidder and cause the entire bid deposit to be forfeited to the BLM under 43 CFR 2711.3-1(d).

If not sold, the parcels described above in this Notice may be identified for sale at a later date and/or at another location without further legal notice.

Federal law requires bidders to be U.S. citizens 18 years of age or older, a corporation subject to the laws of any State or of the United States; a State, State instrumentality, or political subdivision authorized to acquire and own real property, or an entity including, but not limited to, associations or partnerships legally capable of holding property or interests therein under the laws of the State of Nevada. Certification of bidder qualification must accompany the deposit.

Public Comments:

The subject parcels of land will not be offered for sale prior to 60 days after publication of this Notice of Realty Action. For a period until June 18, 2007, interested parties may submit written comments to the BLM Winnemucca Field Office, 5100 East Winnemucca Blvd., Winnemucca, Nevada 89445. Facsimiles, telephone calls, and electronic mails are unacceptable means of notification. Comments including names and street addresses of respondents will be available for public review at the BLM Winnemucca Field Office during regular business hours, except holidays. Before including your address, phone number, e-mail address, or other personal identifying information in your comment, be advised that your entire comment including your personal identifying information may be made publicly available at any time. While you can ask us in your comment to withhold from public review your personal identifying information, we cannot guarantee that we will be able to do so.

Any adverse comments will be reviewed by the Nevada State Director, who may sustain, vacate, or modify this realty action and issue a final determination. In the absence of timely filed objections, this notice of realty action will become the final determination of the Department of the interior.

(Authority: 43 CFR 2711.1-2(a) and (c))

Editorial Note: This document was received at the Office of the Federal Register on April 30, 2007.

Dated: December 11, 2006.
Rodger Bryan,
Acting Field Manager, Winnemucca.

[FR Doc. E7-8502 Filed 5-3-07; 8:45 am]

BILLING CODE 4310-HC-P